DEPARTMENT OF DEFENSE

Office of the Secretary

[Transmittal Nos. 10-66]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated 21 July 1996.

FOR FURTHER INFORMATION CONTACT: Ms. B. English, DSCA/DBO/CFM, (703) 601-3740.

SUPPLEMENTARY INFORMATION: The following is a copy of a letter to the Speaker of the House of Representatives, Transmittal 10-66 with attached transmittal, policy justification, and Sensitivity of Technology.

Dated: December 28, 2010.
Morgan F. Park,
Alternate OSD Federal Register Liaison Officer, Department of Defense.

BILLING CODE 5001-06-P

BILLING CODE 5001-06-C

[FR Doc. 2010-33036 Filed 12-30-10; 8:45 am]

BILLING CODE 5001-06-P